DEPARTMENT OF COMMERCE

National Oceanic and Atmospheric Administration

RIN 0648-XF609

Pacific Fishery Management Council; Public Meeting

AGENCY: National Marine Fisheries Service (NMFS), National Oceanic and Atmospheric Administration (NOAA), Commerce.

ACTION: Notice of public meetings.

SUMMARY: The Pacific Fishery Management Council's (Pacific Council) Scientific and Statistical Committee (SSC) and the SSC's Groundfish Subcommittee will convene two meetings, which are open to the public. The SSC meetings will also be streamed online for those who want to follow the proceedings remotely.

DATES: The SSC meeting will be held Monday, August 28, 2017 from 8 a.m. until 5:30 p.m. (Pacific Standard Time) or when business for the day has been completed. The SSC's Groundfish Subcommittee will meet on Tuesday, August 29, 2017 from 8 a.m. until 1 p.m. or when business for the day has been completed.

ADDRESSES: The SSC and the SSC's Groundfish Subcommittee meetings will be held in the Traynor Room at the National Marine Fisheries Service Western Regional Center's Sand Point facility, Alaska Fisheries Science Center, 7600 Sand Point Way NE., Building 4, Seattle, WA 98115; telephone: (206) 526-4000. Members of the SSC's Groundfish Subcommittee will be attending the meeting in person at the NMFS Alaska Fisheries Science Center and the rest of the SSC are invited to attend both meetings via webinar.

To attend via webinar, (1) join the meeting by visiting this link http://www.gotomeeting.com/online/webinar/join-webinar; (2) enter the webinar ID: 368-736-003, and (3) enter your name and email address (required). After logging into the webinar, please (1) dial this TOLL number: 1-562-247-8422 (not a toll-free number); (2) enter the attendee phone audio access code: 639-618-333; and (3) then enter your audio phone pin (shown after joining the webinar). Note: We have disabled mic/speakers as on option and require all participants to use a telephone or cell phone to participate. Technical Information and System Requirements: PC-based attendees are required to use Windows® 7, Vista, or XP; Mac®-based attendees are required to use Mac OS® X 10.5 or newer; Mobile attendees are required to use iPhone®, iPad®, Android™ phone or Android tablet (See the GoToMeeting WebinarApps). You may send an email to Mr. Kris Kleinschmidt at Kris.Kleinschmidt@noaa.gov or contact him at (503) 820-2280, extension 411 for technical assistance.

Council address: Pacific Fishery Management Council, 7700 NE Ambassador Place, Suite 101, Portland, OR 97220.

FOR FURTHER INFORMATION CONTACT: Mr. John DeVore, Staff Officer, Pacific Fishery Management Council; telephone: (503) 820-2280.

SUPPLEMENTARY INFORMATION: The purpose of the August 28th SSC meeting is to review draft 2017 stock assessment documents, stock assessment review (STAR) panel reports, and any other pertinent information for new benchmark stock assessments for lingcod, Pacific ocean perch, yelloweye rockfish, yellowtail rockfish, blue rockfish, deacon rockfish, and California scorpionfish; review catch-only updates of 2015 assessments for canary and chilipepper rockfish; and consider endorsing these assessments for use by the Pacific Council family and other interested persons for developing management recommendations for fisheries in 2019 and beyond. Additionally, the SSC will consider endorsing new 2019 and 2020 overfishing limits and stock categories for groundfish stocks.

The purpose of the August 29 SSC Groundfish Subcommittee meeting is to review new proposed analyses informing sigmas (i.e., values associated with assessment uncertainty) for older assessments and the proxy stock categories used to determine acceptable biological catches for groundfish stocks. Additionally, the SSC Groundfish Subcommittee will review a proposal for a new stock assessment methodology for determining stock compositions from mixed stock landings. No management actions will be decided by the SSC or the SSC's Groundfish Subcommittee. The SSC members' role will be development of recommendations and reports for consideration by the Pacific Council at its September meeting in Boise, ID. The full SSC is expected to complete their reports at their September meeting in Boise, ID.

Although nonemergency issues not contained in the meeting agendas may be discussed, those issues may not be the subject of formal action during these meetings. Action will be restricted to those issues specifically listed in this notice and any issues arising after publication of this notice that require emergency action under Section 305(c) of the Magnuson-Stevens Fishery Conservation and Management Act, provided the public has been notified of the intent of the SSC to take final action to address the emergency.

All visitors to the National Marine Fisheries Service Western Regional Center's Sand Point facility should bring one of the following forms of identification:

• Enhanced Driver's License from the states of Washington, Minnesota, and New York

• U.S. Passport

• U.S. Passport Card

• U.S. Department of Defense CAC

• U.S. Federal agency HSPD-12 compliant ID cards

• U.S. Veterans ID

• U.S. Military Dependent's ID Card

• U.S. Trusted Traveler Card—Global Entry, SENTRI, or NEXUS

• U.S. Transportation Workers Identification Credential (TWIC)

• State issued Real ID Compliant Driver's Licenses and Identification Cards.

Visitors who are foreign nationals (defined as a person who is not a citizen or national of the United States) will require additional security clearance to access the NMFS Northwest Fisheries Science Center. Foreign national visitors should contact Dr. Martin Dorn at (206) 526-6548 at least two weeks prior to the meeting date to initiate the security clearance process.

Technical Information and System Requirements

PC-based attendees: Windows® 7, Vista, or XP operating system required. Mac®-based attendees: Mac OS® X 10.5 or newer required. Mobile attendees: iPhone®, iPad®, Android™ phone or Android tablet required (use GoToMeeting Webinar Apps).

Special Accommodations

These meetings are physically accessible to people with disabilities. Requests for sign language interpretation or other auxiliary aids should be directed to Mr. Kris Kleinschmidt (503) 820-2280 at least 10 days prior to the meeting date.

Dated: August 7, 2017.
Tracey L. Thompson,
Acting Deputy Director, Office of Sustainable Fisheries, National Marine Fisheries Service.

[FR Doc. 2017-16867 Filed 8-9-17; 8:45 am]

BILLING CODE 3510-22-P